DEPARTMENT OF THE INTERIOR

National Park Service

Flight 93 National Memorial Advisory Commission

AGENCY: National Park Service, Interior.

ACTION: Notice of February 20, 2004 Meeting.

SUMMARY: This notice sets forth the date of the February 20, 2004 meeting of the Flight 93 Advisory Commission.

DATES: The public meeting will be held on February 20, 2004 from 9 a.m. to 12 Noon.

Location: The meeting will be held at the Flight 93 National Memorial office, 109 West Main Street, Newberry Building, Somerset, Pennsylvania, 15501.

Agenda:

The February 20, 2004 meeting will consist of: (1) Opening of Meeting and Pledge of Allegiance; (2) Review and Approval of Minutes from November 14, 2003; (3) Reports from the Flight 93 Memorial Task Force Committees and the National Park Service Administration Committee, Lands/Resource Assessment Committee, Memorial Ideas Planning Committee, Design Solicitation Committee, Fundraising Committee, Government Relations Committee, Public Relations Committee, Archives Committee, Temporary Memorial Management Committee, Family Memorial Committee, Families of Flight 93, Inc., National Park Service. (4) Old Business. (5) New Business. (6) Citizens Open Forum. (7) Closing Remarks.

FOR FURTHER INFORMATION CONTACT: Joanne M. Hanley, Superintendent, Flight 93 National Memorial, 109 West Main Street, Somerset, PA 15501.

SUPPLEMENTARY INFORMATION: The meeting will be open to the public. Any member of the public may file with the Commission a written statement concerning agenda items. The statement should be addressed to the Flight 93 Advisory Commission, 109 West Main Street, Somerset, PA 15501.

Dated: January 9, 2004.
Joanne M. Hanley,
Superintendent, Flight 93 National Memorial.

[FR Doc. 04-1877 Filed 1-28-04; 8:45 am]

BILLING CODE 4310-WH-M